DEPARTMENT OF HEALTH AND HUMAN SERVICES

National Institutes of Health

Government-Owned Inventions; Availability for Licensing

AGENCY: National Institutes of Health, HHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by contacting Susan S. Rucker, J.D., at the Office of Technology Transfer, National Institutes of Health, 6011 Executive Boulevard, Suite 325, Rockville, Maryland 20852-3804; telephone 301/496-7056 ext. 245; fax 301/402-0220; e-mail ruckers@od.nih.gov. A signed Confidential Disclosure Agreement will be required to receive copies of the patent applications.

Hybrid Adeno-Retroviral Vector for the Transformation of Cells

C Zheng, B O'Connell, BJ Baum (NIDCR)

Serial No. 60/265,198 filed Jan 30, 2001

This invention described and claimed in this patent application provides for novel hybrid vectors which may be used for cell transformation either in vivo, in vitro, or ex vivo. The hybrid vectors, which are capable of integrating into the chromosome of the host cell and are capable of transforming dividing or non-dividing cells, have an adenoviral backbone and only a single retroviral long terminal repeat (LTR). Due to their hybrid nature, these vectors provide a means of efficient, reliable, long-term gene expression. Furthermore, unlike other chimeric or hybrid vector systems only a single vector is required to deliver a transgene of interest and retroviral structural proteins are not required. The vectors may be packaged and delivered via a viral particle or directly to the target cell.

ARG, a Human Gene Related to but Distinct From ABL Proto-Oncogene

GD Kruh, SA Aaronson (NCI)

Serial No. 07/559,029 filed Jul 30, 1990 now US Patent 5,693,778 issued Dec 02, 1997

This patent relates to the identification, isolation and cloning of the gene ARG (abelson related gene) also known as ABL2. ARG/ABL2 is located on the long arm of chromosome 1 at 1q24-q25. It is a non-receptor tyrosine kinase. Recent work, by Iijima, et al. Blood 95(6): 2126-2131 (March 15, 2000) and Cazzaniga, et al Blood 94(12):4370-4373 (December 15, 1999), has demonstrated that ABL2/ARG is a partner with the ETV6/TEL gene. ETV6/TEL, located on the short arm of chromosome 12 at 12p13 has previously been implicated in hematological disease, particularly leukemias, through chromosomal translocations. The fusion protein derived from this partnership between ETV6/TEL and ARG/ABL2 includes exons 1-5 of ETV6 (5' PNT region) and the 3' portion of ARG/ABL2 beginning with exon 1B or 2 which contains all of the functional domains of ARG/ABL2. This new work suggests that ARG plays a role in AML and possibly other leukemias.

This work has been published at Kruh GD, et al. Science 234(4783):1545-8 (Dec 19, 1986) and Kruh GD, et al. PNAS, USA 87:5802 (Aug 1990).

Dated: March 6, 2001.
Jack Spiegel,
Director, Division of Technology, Development and Transfer, Office of Technology Transfer, National Institutes of Health.

[FR Doc. 01-6272 Filed 3-13-01; 8:45 am]

BILLING CODE 4140-01-P